DEPARTMENT OF COMMERCE

National Oceanic and Atmospheric Administration

Availability of Seats for the Gray's Reef National Marine Sanctuary Advisory Council

AGENCY: Office of National Marine Sanctuaries (ONMS), National Ocean Service (NOS), National Oceanic and Atmospheric Administration, Department of Commerce (DCC).

ACTION: Notice and request for applications.

SUMMARY: The Gray's Reef National Marine Sanctuary (GRNMS or sanctuary) is seeking applicants for the following vacant seats on its Sanctuary Advisory Council (council) Charter/Commercial Fishing and University Education. Applicants are chosen based upon their particular expertise and experience in relation to the seat for which they are applying; community and professional affiliations; philosophy regarding the protection and management of marine resources; and possibly the length of residence in the area affected by the sanctuary. Applicants who are chosen as members should expect to serve three-year terms, pursuant to the council's Charter.

DATES: Applications are due by July 15, 2008.

ADDRESSES: Application kits may be obtained from Becky Shortland, Council Coordinator (becky.shortland@noaa.gov), 10 Ocean Science Circle, Savannah, GA 31411; 912-598-2381). Completed applications should be sent to the same address.

FOR FURTHER INFORMATION CONTACT: Becky Shortland, Council Coordinator (becky.shortland@noaa.gov), 10 Ocean Science Circle, Savannah, GA 31411; 912-598-2381.

SUPPLEMENTARY INFORMATION: The sanctuary advisory council was established in August 1999 to provide advice and recommendations on management and protection of the sanctuary. The advisory council, through its members, also serves as liaison to the community regarding sanctuary issues and represents community interests, concerns, and management needs to the sanctuary and NOAA.

Authority: 16 U.S.C. Section 1431, et seq.

(Federal Domestic Assistance Catalog Number 11.429, Marine Sanctuary Program)

May 27, 2008.
Daniel J. Basta,
Director, Office of National Marine Sanctuaries, National Ocean Service, National Oceanic and Atmospheric Administration.

[FR Doc. E8-12283 Filed 6-4-08; 8:45 am]

BILLING CODE 3510-NK-M